DEPARTMENT OF THE INTERIOR

Bureau of Land Management

[HE-952-9911-EK-24 1A]

Submission to Office of Management and Budget—Information Collection, OMB Control Number 1004-0179

AGENCY: Bureau of Land Management, Interior.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by November 28, 2007 to receive maximum consideration.

ADDRESSES: Send comments to the OMB, Interior Department Desk Officer (1004-0179), at OMB-OIRA via e-mail OIRA_DOCKET@omb.eop.gov or via facsimile at (202) 395-6566. Also please send a copy of your comments to BLM via Internet and include your name, address, and ATTN: 1004-0179 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Ted Hudson to obtain copies and explanatory material on this information collection at (202) 452-5042. Persons who use a telecommunication device for the deaf (TDD) may call the Federal Information Relay Service (FIRS) on 1-800-877-8330, 24 hours a day, seven days a week, to contact Mr. Hudson.

SUPPLEMENTARY INFORMATION: On June 21, 2006, the BLM published a notice in the Federal Register (71 FR 35694) requesting comments on the information collection. The comment period closed on August 21, 2006. The BLM did not receive any comments.

We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Helium Contracts (43 CFR part 3195).

OMB Control Number: 1004-0179.

Abstract: The BLM collects and uses the information from entities interested in purchasing and selling Federal helium. The respondents are Federal agencies and helium suppliers (contractors) who purchase major helium requirements and report to the BLM the sales information. The authority for this activity is 50 U.S.C. 167a.

Burden Estimate Per Form: We estimate the completion time for this form and non-form information that is submitted initially and quarterly, respectively, to the BLM by the private sector as follows:

Burden hours information collected | Number of actions per year | Burden hours per action | Total annual burden hours
A In-Kind Crude Helium Sales Contract (Filed once) | 8 | 4 | 32
B Quarterly Non-form Reporting of Sales Information | 32 | 4 | 128
Total | 40 |  | 160

Annual Responses: 40.

Application Fee Per Response: 0.

Annual Burden Hours: 160.

Dated: October 24, 2007.
Ted R. Hudson,
Acting Chief, Division of Regulatory Affairs.

[FR Doc. E7-21262 Filed 10-26-07; 8:45 am]

BILLING CODE 4310-84-P